FEDERAL COMMUNICATIONS COMMISSION

47 CFR Part 2

[ET Docket No. 23-120; RM-11785; FCC 25-60; FR ID 323350]

Implementation of the Final Acts of the World Radiocommunication Conference (Geneva, 2015) (WRC-15), Other Allocation Issues, and Related Rule Updates; Correction

AGENCY: Federal Communications Commission.

ACTION: Final rule; correction.

SUMMARY: The Federal Communications Commission (the FCC or Commission) is correcting a final rule that appeared in the Federal Register on January 14, 2026. The document issued a final rule regarding “Implementation of the Final Acts of the World Radiocommunication Conference (Geneva, 2015) (WRC-15), Other Allocation Issues, and Related Rule Updates”.

DATES: Effective February 13, 2026.

FOR FURTHER INFORMATION CONTACT: Sebastian Garcia of the Office of Engineering and Technology, at Sebastian.Garcia@fcc.gov or 202-418-2932.

SUPPLEMENTARY INFORMATION:

Correction

In FR Doc. 2026-00587 appearing on page 1405 in the Federal Register of Wednesday, January 14, 2026, the following corrections are made:

1. On pages 1418, 1421, and 1425, in § 2.106, paragraph (a), pages 26, 30, and 52 of the Table of Frequency Allocations are corrected to read as follows:

§ 2.106 Table of Frequency Allocations.

(a) * * *

BILLING CODE 6712-FR-P

Dated: February 11, 2026.
Federal Communications Commission.
Marlene Dortch,
Secretary.

[FR Doc. 2026-03069 Filed 2-13-26; 8:45 am]

BILLING CODE 6712-01-C